DEPARTMENT OF THE INTERIOR

National Park Service

[N6524; NPS-WASO-NAGPRA-NPS0041077; PPWOCRADN0-PCU00RP14.R50000]

Notice of Inventory Completion: U.S. Department of the Interior, Bureau of Land Management, Arizona State Office, Phoenix, AZ

AGENCY: National Park Service, Interior.

ACTION: Notice.

SUMMARY: In accordance with the Native American Graves Protection and Repatriation Act (NAGPRA), the U.S. Department of Interior, Bureau of Land Management, Arizona State Office (BLM), has completed an inventory of human remains and associated funerary objects and has determined that there is a cultural affiliation between the human remains and associated funerary objects and Indian Tribes or Native Hawaiian organizations in this notice.

DATES: Repatriation of the human remains and associated funerary objects in this notice may occur on or after October 16, 2025.

ADDRESSES: Send written requests for repatriation of the human remains and associated funerary objects in this notice to Raymond Suazo, Arizona State Director, BLM Arizona State Office, One North Central Avenue, Suite 800, Phoenix, AZ 85004-9412, email blm_az_asoweb@blm.gov.

SUPPLEMENTARY INFORMATION: This notice is published as part of the National Park Service's administrative responsibilities under NAGPRA. The determinations in this notice are the sole responsibility of the BLM and additional information on the determinations in this notice, including the results of consultation, can be found in its inventory or related records. The National Park Service is not responsible for the determinations in this notice.

Abstract of Information Available

Based on the information available, human remains representing at least 20 individuals have been identified from two sites in Graham Country, Arizona. The 302 associated funerary objects include an apron, atlatl, bag, bag fragment, botanical material, cords, cord fragment, cradles, cradle fragment, cradle fragment cord, cradle fragment leather, gourd fragment, hammerstone, hematite, leather fragment, mano, net fragment, pipe, plant fiber artifact, plant fiber bag, plant material, plant material bundle, projectile point, rabbit skin pad, robe fragment, sandals, shell bead, shell pendant, sherds, textile fragment, unprocessed leaf fiber, and wood artifact.

AZ W:13:6 (ASM), sometimes called “McEuen Cave”, is a rock shelter in southeastern Arizona. Human remains representing at least 19 individuals have been reasonably identified from AZ W:13:6 (ASM), The funerary objects include 269 objects. Radiocarbon dating from the early 1960s suggests the site was occupied multiple times beginning around 2200-2500 BP. The material culture indicates repeated use by both Late Archaic and Mogollon peoples. The site was first excavated in 1934 and 1935. Records indicate that during this period, several individuals associated with the excavation also purchased artifacts removed from the cave by local residents and incorporated them into the archaeological collections. These collections were initially curated at various repositories in Arizona, but several consolidation efforts have resulted in the bulk of the collections being housed at the Arizona State Museum.

AZ W:13:21 (ASM), sometimes called “Day Mine Rock Shelter”, is also located in southeastern Arizona. Human remains representing at least one individual have been reasonably identified from the site. The 33 associated funerary objects include 32 sherds and one mano. Ceramics recovered during excavation suggest multiple occupations between A.D. 900 and A.D. 1500 by Late Archaic, Mogollon, and Salado peoples. Materials from AZ W:13:21 (ASM) were excavated in 1987 following extensive vandalism in 1984. The human remains from AZ W:13:21 (ASM) were loaned to the Human Identification Laboratory at the Arizona State Museum for osteological assessment on February 23, 1989, by the BLM. In 2002, the BLM registered the collection with the Arizona State Museum for final curation.

Cultural Affiliation

Based on the information available and the results of consultation, cultural affiliation is clearly identified by the information available about the human remains and associated funerary objects described in this notice.

Determinations

The BLM has determined that:

• The human remains described in this notice represent the physical remains of 20 individuals of Native American ancestry.

• The 302 funerary objects, described in this notice are reasonably believed to have been placed intentionally with or near individual human remains at the time of death or later as part of the death rite or ceremony.

• There is a reasonable connection between the human remains and associated funerary objects described in this notice and the Ak-Chin Indian Community; Gila River Indian Community of the Gila River Indian Reservation, Arizona; Hopi Tribe of Arizona; Salt River Pima-Maricopa Indian Community of the Salt River Reservation, Arizona; San Carlos Apache Tribe of the San Carlos Reservation, Arizona; and the Tohono O'odham Nation of Arizona.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after October 16, 2025. If competing requests for repatriation are received, the BLM must determine the most appropriate requestor prior to repatriation. Requests for joint repatriation of the human remains and associated funerary objects are considered a single request and not competing requests. The BLM is responsible for sending a copy of this notice to the Indian Tribes and Native Hawaiian organizations identified in this notice.

Authority: Native American Graves Protection and Repatriation Act, 25 U.S.C. 3003, and the implementing regulations, 43 CFR 10.10.

Dated: September 4, 2025.
Melanie O'Brien,
Manager, National NAGPRA Program.

[FR Doc. 2025-17883 Filed 9-15-25; 8:45 am]

BILLING CODE 4312-52-P